DEPARTMENT OF DEFENSE

Department of the Army

Notice of Availability of the Record of Decision (ROD) for Transformation at the Pinon Canyon Maneuver Site (PCMS), Colorado

AGENCY: Department of the Army.

ACTION: Record of Decision.

SUMMARY: The Department of the Army announces the availability of a ROD documenting and explaining the decision to implement realignment transformation actions, as directed by the Base Realignment and Closure (BRAC) Commission, at the Pinon Canyon Maneuver Site (PCMS) in Las Animas County in southeastern Colorado, and other Army transformation programs. The decision is based on the analysis described in the Final PCMS Transformation Environmental Impact Statement (EIS), supporting studies, and comments provided during formal comment and review periods.

FOR FURTHER INFORMATION CONTACT: PCMS National Environmental Policy Act (NEPA) Coordinator, Directorate of Environmental Compliance and Management, 1638 Elwell Street, Building 6236, Fort Carson, Colorado 80913-4000; telephone: 719-526-0912; fax: 719-526-1705; or e-mail: carsdecampcmsnepa@conus.army.mil.

SUPPLEMENTARY INFORMATION: The Army has decided to proceed with implementing the Proposed Action described in the Final EIS. The Proposed Action is the Army's preferred alternative to implement three transformation programs at the PCMS. The Army transformation programs include: BRAC 2005; Global Defense Posture Realignment (formerly known as Integrated Global Presence and Basing Strategy); and the Army Modular Force initiative. These programs are part of the overall Army restructuring and are needed to prepare the Army's combat forces for deployment around the world. The Army's decision considered and is consistent with the analysis presented in the EIS, supporting studies, and comments provided during formal comment and review periods.

To implement the BRAC Commission recommendations, the Proposed Action includes two primary components: (1) More frequent use of the PCMS training areas to provide training for approximately 8,500 realigned Active Component (AC) Soldiers and additional Reserve Component (RC) Soldiers assigned to, or otherwise under the control of, Fort Carson and (2) construction of facilities in the Cantonment and ranges in the training areas.

The Proposed Action will provide for increased frequency of training for existing and new units stations at, or otherwise assigned to, Fort Carson. Training and maneuver activities would be similar to the types of activities that presently occur on the PCMS. The increased training requirements of additional AC and RC units, however, will result in increased frequency of use of the training areas. The Army will continue to implement land and environmental management programs and practices to sustain its training lands for continued use. The No Action Alternative would not meet the Army's purpose and need for the Proposed Action because the BRAC realignment is required by Congress and needed for Army transformation to be effective.

All practicable means to avoid or minimize environmental impacts as a result of implementing the selected action have been adopted. The Army will minimize effects on all environmental and cultural resources by implementing the best management practices and mitigation measures described in the ROD to minimize or avoid the adverse effects identified in the Final EIS.

The Army's decision reflects a proper balance among initiatives for protection of the environment, appropriate mitigation, and actions to achieve the Army's requirements.

The decision does not include expansion of the PCMS through land acquisition. Expansion of the PCMS is a separate action that will be evaluated in a public process at a future date.

An electronic version of the ROD can be viewed or downloaded online at http://www.hqda.army.mil/acsim/brac/nepa_eis_docs.htm.

Dated: August 5, 2007.
Addison D. Davis, IV,
Deputy Assistant Secretary of the Army (Environment, Safety and Occupational Health).

[FR Doc. 07-3912 Filed 8-09-07; 8:45 am]

BILLING CODE 3710-08-M